DEPARTMENT OF COMMERCE

International Trade Administration

[A-351-806]

Notice of Decision of the Court of International Trade: Silicon Metal From Brazil

AGENCY: Import Administration, International Trade Administration, Department of Commerce.

ACTION: Notice of Decision of the Court of International Trade.

SUMMARY: On June 27, 2003, the United States Court of International Trade (CIT) affirmed the Department of Commerce's results of redetermination on remand of the final results of the sixth administrative review of the antidumping duty order on silicon metal from Brazil. See American Silicon Technologies, et al. v. United States, Slip Op. 99-03-00149 (CIT June 27, 2003) (American Silicon Decision). Consistent with the decision of the United States Court of Appeals for the Federal Circuit (Federal Circuit) in Timken Co. v. United States, 893 F.2d 337 (Fed. Cir. 1990) (Timken), the Department is notifying the public that American Silicon Decision and the CIT's earlier opinion in this case, discussed below, were “not in harmony” with the Department's original results.

EFFECTIVE DATE: July 8, 2003.

FOR FURTHER INFORMATION CONTACT: Maisha Cryor, AD/CVD Enforcement, Office 4, Group II, Import Administration, International Trade Administration, U.S. Department of Commerce, 14th Street and Constitution Ave., N.W., Washington, D.C. 20230; telephone: (202) 482-5831.

SUPPLEMENTARY INFORMATION:

Background

On February 9, 1999, the Department of Commerce (the Department) published a notice of the final results of the sixth administrative review of the antidumping duty order on silicon metal from Brazil. See Silicon Metal From Brazil: Final Results of Antidumping Duty Administrative Review, 64 FR 6305 (February 9, 1999) (Final Results). Subsequent to the Department's Final Results, the respondent filed a lawsuit with the CIT challenging these results. Thereafter, the CIT issued an Order and Opinion dated July 17, 2000, in American Silicon Technologies, et al. v. United States, 110 F. Supp. 2d 992, 1003-1004 ( Ct. Int'l Trade 2000) (American Silicon I), remanding three issues to the Department. Pursuant to American Silicon I, the Department filed its remand results on January 29, 2001. The CIT reviewed the Department's redetermination on remand and issued an Order and Opinion dated October 17, 2002, in American Silicon Technologies, et al. v. United States, No. 99-03-00149, Slip Op. 02-123 (Ct. Int'l Trade 2002) (American Silicon II), remanding one issue to the Department. Pursuant to American Silicon II, the Department filed its remand results on January 22, 2003. The respondent challenged the Department's redetermination on remand. On June 27, 2003, the CIT affirmed the Department's final results of redetermination in American Silicon Decision.

Timken Notice

In its decision in Timken, the Federal Circuit held that, pursuant to 19 U.S.C. 1516a(e), the Department must publish notice of a decision of the CIT which is “not in harmony” with the Department's results. The CIT's decision in American Silicon Decision was not in harmony with the Department's final antidumping duty results of review. Therefore, publication of this notice fulfills the obligation imposed upon the Department by the decision in Timken. In addition, this notice will serve to continue the suspension of liquidation. If this decision is not appealed, or if appealed, if it is upheld, the Department will publish amended final antidumping duty results.

Dated: July 2, 2003.
Joseph A. Spetrini,
Acting Assistant Secretary for Grant Aldonas, Under Secretary.

[FR Doc. 03-17376 Filed 7-7-03; 8:45 am]

BILLING CODE 3510-DS-S